DEPARTMENT OF COMMERCE

Foreign-Trade Zones Board

[B-16-2022]

Foreign-Trade Zone 21—Dorchester County, South Carolina; Application for Subzone; Patheon API, Inc., Florence, South Carolina

An application has been submitted to the Foreign-Trade Zones (FTZ) Board by the South Carolina State Ports Authority, grantee of FTZ 21, requesting subzone status for the facilities of Patheon API, Inc., located in Florence, South Carolina. The application was submitted pursuant to the provisions of the Foreign-Trade Zones Act, as amended (19 U.S.C. 81a-81u), and the regulations of the FTZ Board (15 CFR part 400). It was formally docketed on April 25, 2022.

The proposed subzone would consist of the following sites: Site 1 (1,398 acres) 6173 E Old Marion Highway, Florence; and, Site 2 (11 acres) 101 Technology Place, Florence. No authorization for production activity has been requested at this time.

In accordance with the FTZ Board's regulations, Christopher Kemp of the FTZ Staff is designated examiner to review the application and make recommendations to the FTZ Board.

Public comment is invited from interested parties. Submissions shall be addressed to the FTZ Board's Executive Secretary and sent to: ftz@trade.gov. The closing period for their receipt is June 8, 2022. Rebuttal comments in response to material submitted during the foregoing period may be submitted during the subsequent 15-day period to June 23, 2022.

A copy of the application will be available for public inspection in the “Online FTZ Information Section” section of the FTZ Board's website, which is accessible via www.trade.gov/ftz.

For further information, contact Christopher Kemp at Christopher.Kemp@trade.gov.

Dated: April 25, 2022.
Andrew McGilvray,
Executive Secretary.

[FR Doc. 2022-09201 Filed 4-28-22; 8:45 am]

BILLING CODE 3510-DS-P